DEPARTMENT OF THE INTERIOR

National Park Service

Minor Boundary Revision at Sequoia National Park

AGENCY: National Park Service, Interior.

ACTION: Announcement of park boundary revision.

SUMMARY: Notice is hereby given that the boundary of Sequoia National Park is modified to include approximately 11.83 acres of real property adjacent to the park. This adjustment is accomplished to include private property that the owner wishes to sell to the United States for the use of Sequoia National Park and which the National Park Service has concluded would be a valuable addition to the park. The real property added to the park is depicted as Tract 05-110 on Drawing No. 102/80,034, Sheet 6 of 8, Segment Map 05, dated January 3, 2005. This map is on file and available for inspection at the following locations: National Park Service, Land Resources Program Center, Pacific West Region, 1111 Jackson St., Suite 700, Oakland, CA 94607, and National Park Service, Department of the Interior, Washington, DC 20240.

FOR FURTHER INFORMATION CONTACT: National Park Service, Chief, Pacific Land Resources Program Center, Pacific West Region, 1111 Jackson St., Suite 700, Oakland, CA 94607, (510) 817-1414.

SUPPLEMENTARY INFORMATION: The Act of November 10, 1978 provides that, after notifying the House Committee on Resources and the Senate Committee on Energy and Natural Resources, the Secretary of the Interior may make minor revisions to the boundary of Sequoia National Park by publication of a revised map or description in the Federal Register.

Dated: August 1, 2006.
Jonathan B, Jarvis,
Regional Director, Pacific West Region.

[FR Doc. E6-17559 Filed 10-19-06; 8:45 am]

BILLING CODE 4310-X2-P